DEPARTMENT OF COMMERCE

National Oceanic and Atmospheric Administration

RIN 0648-XE04

New and Revised Conservation and Management Measures and Resolutions for Antarctic Marine Living Resources Under the Auspices of CCAMLR

AGENCY: National Marine Fisheries Service (NMFS), National Oceanic and Atmospheric Administration (NOAA), Commerce.

ACTION: Final notice.

SUMMARY: NMFS notifies the public that the United States has accepted conservation and management measures and a resolution pertaining to fishing in Antarctic waters managed by the Commission for the Conservation of Antarctic Marine Living Resources (Commission or CCAMLR). The Commission adopted these measures at its twenty-sixth meeting in Hobart, Tasmania, October 22 to November 2, 2007. The measures have been agreed upon by the Member countries of CCAMLR, including the United States, in accordance with Article IX of the Convention for the Conservation of Antarctic Marine Living Resources (the Convention). The measures include: measures previously adopted by the Commission and remaining in force; measures adopted for the 2007/2008 fishing season to restrict overall catches, research catch and bycatch of certain species of finfish, squid, krill and crabs; restrict fishing in certain areas; restrict use of certain fishing gear; specify implementation and inspection obligations supporting the Catch Documentation Scheme of Contracting Parties; and promote compliance with CCAMLR measures by non-Contracting Party vessels. The full text of all the measures adopted by CCAMLR can also be found on CCAMLR's website — www.ccamlr.org.

DATES: This final notice is effective on March 20, 2008.

FOR FURTHER INFORMATION CONTACT: Robert Gorrell, Office of Sustainable Fisheries, Room 13463, 1315 East-West Highway, SSMC3, NMFS, Silver Spring, MD 20910; tel: 301-713-2341; fax 301-713-1193; e-mail Robert.Gorrell@noaa.gov.

SUPPLEMENTARY INFORMATION:

Background

Pursuant to 50 CFR 300.111, NMFS and the U.S. Department of State (DOS) published in the Federal Register on December 21, 2007 (72 FR 72826) the full text of the new and revised conservation and management measures adopted by CCAMLR at its 2007 meeting. NMFS did not republish those conservation and management measures that were adopted at a previous CCAMLR meeting and that did not change.

NMFS invited the public to comment on these conservation measures and received two such comments.

Comment 1

One commenter suggested a cessation to the harvesting of krill in all oceans by all countries. The commenter stated that krill are the foundation forage for several important food chains, including finfish, cetaceans, and ultimately humans, and that if humans collectively weaken food chain foundations, humans do harm to their long-term commercial fish harvests and especially to the continued long-term prosperity of the oceans.

Response

NMFS recognizes the importance of krill in the ocean's food chains and has taken action in CCAMLR to support the adoption of a precautionary approach to setting catch limits on the large concentrations of krill in the CCAMLR Convention Area. The United States has agreed to a catch limit in CCAMLR that is well below the harvestable biomass. Total international harvests in the krill fishery in the past have been at a low percentage relative to the CCAMLR catch limits. Beyond working in international fora such as CCAMLR, the United States cannot control foreign harvests of krill in all oceans by all countries.

Comment 2

Another commenter, the Humane Society International (HIS) and the Humane Society of the United States (HSUS), supports immediate ratification and enactment of the protection measures agreed to at last November's CCAMLR meeting. This commenter also urged the United States and other member countries to begin to identify and address the following areas that the commenter believes are in need of improvement: (1) climate change; (2) ice strengthening of fishing vessels; (3) banning use of heavy gas oils in Antarctic waters; (4) trade controls in support of containing IUU fishing; (5) choosing an ecosystem-based management consistent framework for setting krill catch limits for small scale management units; and (6) International Whaling Commission/CCAMLR workshop on whale research. The HIS and HSUS elaborated on their suggestions and urgings for the United States in each of these six areas.

Response

Beyond the comment by the HIS and HSUS that they had no objection to the measures that were published in the preliminary notice by NMFS and DOS, they raised other issues that were outside the scope of the measures and resolution adopted at the 2007 CCAMLR meeting and presented in this notice. Nonetheless, those issues (e.g., climate change, trade measures, and krill harvesting for small scale management units) are being discussed and debated by member nations to CCAMLR including the United States, and by the CCAMLR Scientific Committee. Therefore, it is quite possible that these discussions could lead to conservation measures in the future that CCAMLR would adopt and that would address concerns voiced by HIS and HSUS.

After considering public comment under 50 CFR 300.111, NMFS notifies the public that the United States accepts the conservation measures adopted at CCAMLR's twenty-sixth meeting, and considers the measures in effect with respect to the United States. For the full text of the measures adopted, see 72 FR 72826, December 21, 2007. NMFS provides the following summary of these conservation measures and a resolution as a courtesy to the public.

Revised Measures

The Commission revised the following compliance measures: licensing and inspection obligations of Contracting Parties with regard to their flag vessels operating in the Convention Area were revised to require -- adequate communication equipment and trained operators on board; sufficient immersion survival suits for all on board; adequate arrangements to handle medical emergencies; reserves of food, fresh water, fuel and spare parts for critical equipment; and an approved Shipboard Oil Pollution Emergency Plan outlining marine pollution mitigation arrangements in the event of a fuel or waste spill 1,2,3 (CM 10-02); and automated satellite-linked Vessel Monitoring Systems (VMS) requirements to eliminate the exception for vessels participating in the krill fishery (CM 10-04).

The Commission revised general fisheries matters to require: notifications of intent to participate in a fishery for krill, Euphausia superba, including notification of intent to participate in a fishery for krill (CM 21-03); data reporting system for Euphausia superba fisheries (CM 23-06); and minimization of the incidental mortality of seabirds in the course of longline fishing or longline fishing research in the Convention Area1,2,3 by giving Spanish longline system vessel operators the choice of either using traditional weights under the current two mass/spacing regimes or using steel weights under a mass spacing regime and by specifying the mass and spacing of weights (CM 25-02).

The Commission revised fishery regulations for krill by: setting precautionary catch limits on Euphausia superba in Statistical Subareas 48.1, 48.2, 48.3, and 48.4 so that the total combined catch in these subareas is limited to 620,000 tonnes (trigger level) in any fishing season until the Commission has defined an allocation of the total catch limit of 3.47 million tones between smaller management units (CM 51-01); and setting precautionary catch limitation on Euphausia superba in Statistical Division 58.4.2 at 2.645 million tonnes total catch, which may be subdivided into 1.448 million tonnes west of 55 degrees E. and 1.080 million tonnes east of 55 degrees E., however, until the Commission has defined an allocation of this total catch limit between smaller management units, the total catch in Division 58.4.2 is limited to 260,000 tonnes west of 55 degrees E. and 192,000 tonnes east of 55 degrees E. in any fishing season (CM 51-03). The Commission carried over from last year the precautionary catch limit on Euphausia superba in Statistical Division 58.4.1 of 440,000 tonnes total catch, which is subdivided into 277,000 tonnes west of 115 degrees E. and 163,000 tonnes east of 115 degrees E.

CCAMLR Ecosystem Monitoring Program

The Commission rescinded the Seal Islands as CCAMR Ecosystem Monitoring Program Protected Sites.

Prohibitions on Directed Fishing

The Commission retained the continuing prohibitions for directed fishing for finfish in Statistical Subareas 48.1 and 48.2; for Notothenia rossii in Statistical Subareas 48.1, 48.2 and 48.3; for Gobionotothen gibberifrons, Chaenocephalus aceratus, Pseudochaenicthys georgianus, Lepidonotothen squamifrons and Patagonotothen guntheri in Statistical Subareas 48.3; for Lepidonotothen squamifrons in Statistical Division 58.4.4; for Dissostichus species in Statistical Division 58.4.4 outside areas of national jurisdiction; for Dissostichus eleginoides in Statistical Subarea 58.6; for Dissostichus eleginoides in Statistical Subarea 58.7; for Dissostichus eleginoides in Statistical Division 58.5.1 outside areas of national jurisdiction; for Dissostichus eleginoides in Statistical Division 58.5.2 east of 79°20'E and outside of the EEZ to the west of 79°20'E; for Dissostichus species in Statistical Subarea 88.2 north of 65° S; for Dissostichus species in Statistical Subarea 88.3; and for Electrona carlsbergi in Statistical Subarea 48.3.

The Commission adopted a new general measure (CM 32-09) that prohibited directed fishing for Dissostichus species in Statistical Subarea 48.5, except in accordance with specific conservation measures, during the 2007/2008 fishing season.

General Fisheries Matters and Fishery Regulations

The Commission adopted a new general measure (CM 31-02) for the closure of all fisheries¹,²,³. This new conservation measure requires all vessels to remove their fishing gear from the water by the notified closure date and time, and upon receipt of such notification, no further longlines may be set within 24 hours of the notified closure date and time. All vessels should depart the closed fishery as soon as all fishing gear has been removed from the water, and if gear cannot be removed by the notified closure date then the Flag State, Secretariat, and Members must be notified.

The Commission adopted a new measure ¹,²,³ (CM 22-06) that restricts bottom fishing in the Convention Area south of 60°S; and to the rest of the Convention Area with the exception of subareas and divisions where an established fishery was in place in 2006/2007 with a catch limit greater than zero. The purpose is to prevent significant adverse impacts on “vulnerable marine ecosystems” (VME) (including seamounts, hydrothermal vents, cold water corals and sponge fields). Under this measure, until November 2008, bottom fishing activities shall be limited to those areas for which bottom fishing activities were approved by the Commission in the 2006/2007 fishing season. Contracting Parties whose vessels wish to engage in any bottom fishing activities, beginning 1 December 2008, must follow the procedures proscribed by the Commission to assess the impacts of bottom fishing on VMEs. The CCAMLR Scientific Committee will conduct an assessment to determine if the bottom fishing would contribute to having significant adverse impacts on VMEs and to ensure that individual bottom fishing activities are managed to prevent such impacts or are not authorized to proceed.

Where evidence of a VME is encountered in the course of bottom fishing operations, Contracting Parties are to report the encounter to the Secretariat so that appropriate conservation measures can be adopted relevant to the site. The Commission agreed to adopt initial conservation measures in 2008 to be applied when evidence of a VME is encountered in the course of fishing operations.

All Contracting Parties whose vessels participate in bottom fisheries must ensure that their vessels are: properly equipped; carry at least one CCAMLR-designated scientific observer; submit data pursuant to data collection plans for bottom fisheries to be developed by the Scientific Committee; and submit relevant data to CCAMLR and the Scientific Committee for review. The new bottom fishing measure also addresses data collection and sharing, including digital maps of VMEs in the Convention Area, and scientific research activities. Beginning in 2009 and biennially thereafter, the Commission agreed to examine the effectiveness of relevant conservation measures in protecting VMEs from significant adverse impacts, based upon advice from the Scientific Committee.

Bycatch

The Commission agreed to extend the existing bycatch limits in Statistical Division 58.5.2 into the 2007/2008 season. The Commission also agreed to extend the existing bycatch limits and move-on rules for exploratory fisheries into the 2007/2008 season.

The Commission adopted a new measure (CM 33-02) that there be no directed fishing for any species other than Dissostichus eleginoides and Champsocephalus gunnari in Statistical Division 58.5.2 in the 2007/2008 fishing season. The measure for Statistical Division 58.5.2 also limited bycatch of Channichthys rhinoceratus to 150 tonnes, bycatch of Lepidonotothen squamifrons to 80 tonnes, bycatch of Macrourus spp. to 360 tonnes, and the bycatch of skates and rays to 120 tonnes. The bycatch of any other fish species and for which there is no other catch limit in force, may not exceed 50 tonnes in Statistical Division 58.5.2. The measure also set minimum distances separating fishing locations or trawl paths if specified bycatch limits of certain species were exceeded.The Commission adopted a new measure1,2,3 (CM 33-03) that applies to new and exploratory fisheries in all areas containing small-scale research units (SSRUs) in the 2007/2008 season, except where specific bycatch limits apply. The catch limits for all bycatch species are:

Table 1: Bycatch Catch Limits for New and Exploratory Fisheries in 2007/2008
Statistical Subarea/ Division | Region | Dissostichus spp. catch limit (tonnes per region) | Bycatch catch limit: Skates and rays (tonnes per region) | Bycatch catch limit: Macrourus spp. (tonnes per region) | Bycatch catch limit: Other species (tonnes per SSRU)
48.6 | North of 60°S | 200 | 50 | 32 | 20
| South of 60°S | 200 | 50 | 32 | 20
58.4.1 | Whole division | 600 | 50 | 96 | 20
58.4.2 | Whole division | 780 | 50 | 124 | 20
58.4.3 | Whole division | 250 | 50 | 26 | 20
58.4.3b | North of 60°S | 150 | 50 | 80 | 20
88.1 | Whole subarea | 2,660 | 133 | 426 | 20
88.2 | South of 60°S | 547 | 50 | 88 | 20

Within these catch limits, the total catch of bycatch species in any SSRU or combination of SSRUs as defined in relevant conservation measures shall not exceed the following limits: skates and rays 5% of the catch limit of Dissostichus spp. or 50 tonnes whichever is greater; Macrourus spp. 16% of the catch limit for Dissostichus spp. or 20 tonnes, whichever is greater, and all other species combined 20 tonnes. Unless otherwise requested by scientific observers, vessels, where possible, should release skates and rays alive from the line by cutting snoods, and when practical removing the hooks. The measures would require a vessel to cease fishing and move on to other fishing grounds if harvests reached a certain target level.

New and Exploratory Fishing

The Commission adopted new general measures 1,2,3 (CM 41-01) for exploratory fisheries using trawl or longline methods, except for such fisheries where the Commission has given specific exemptions, for Dissostichus spp. in the Convention Area in the 2007/2008 season, which include: (1) fishing in any small-scale research unit (SSRU) must cease when the reported catch reaches the specified catch limit and that SSRU will be closed to fishing for the remainder of the season; (2) how the precise geographic positions of a haul in trawl fisheries will be determined; (3) how the precise geographic position of a haul/set in longline fisheries will be determined; (4) the vessel will be deemed to be fishing in any SSRU from the beginning of the setting process until the completion of the hauling of all lines; (5) catch and effort information for each species by SSRU must be reported using CCAMLR's Five-day Catch and Effort Reporting System; (6) the Secretarial will notify Contracting Parties participating in these fisheries when the total catch for Dissostichus eleginoides and Dissostichus mawsoni combined in any SSRU is likely to reach the specified catch limit, and of the closure of that SSRU when that limit is reached; (7) the total number and weight of Dissostichus eleginoides and Dissostichus mawsoni discarded must be reported; (8) each vessel must have one scientific observer appointed in accordance with the CCAMLR Scheme of International Scientific Observation, and where possible one additional scientific observer, on board throughout all fishing activities within the fishing season; (9) a Data Collection Plan, Research Plan, and Tagging Program, together with specific provisions for each exploratory fishery must be implemented; and (10) notification provisions for Members who are not going to participate in the fishery.

Dissostichus Species

The Commission set (new CM 41-02) a combined catch limit of 3,920 tonnes for the longline and pot fisheries for Dissostichus eleginoides in Statistical Subarea 48.3 in each of the fishing seasons 2007/2008 and 2008/2009. The catch limit is further subdivided: (1) Management Area A (West Shag Rocks area): 0 tonnes; (2) Management Area B (Shag Rocks area): 1,176 tonnes in each season; and (3) Management Area C (South Georgia area): 2,744 tonnes in each season. The Commission also set bycatch limits on other species.

The Commission authorized exploratory fisheries for Dissostichus spp. for the 2007/2008 fishing season as follows: (1) longline fishing in Statistical Subarea 48.6 by no more than one vessel per country at any time by Japan, Republic of Korea, New Zealand, and South Africa and the total catch for Dissostichus spp. is limited to 200 tonnes north of 60 degrees S. and 200 tonnes south of 60 degrees S. (new CM 41-04); (2) longline fishing in Statistical Division 58.4.1 by Australia (one vessel), Japan (one vessel), Republic of Korea (five vessels), Namibia (two vessels), New Zealand (three vessels), Spain (one vessel), Ukraine (one vessel), and Uruguay (one vessel) and the total catch for Dissostichus spp. is limited to 600 tonnes of which no more than 200 tonnes may be taken in any one of the eight SSRUs (new CM 41-11); (3) longline fishing in Statistical Division 58.4.2 by Australia (one vessel), Japan (one vessel); Republic of Korea (five vessels), Namibia (two vessels), New Zealand (two vessels), South Africa (one vessel), Spain (one vessel), Ukraine (one vessel), and Uruguay (one vessel) and the total catch for Dissostichus spp. is limited to 780 tonnes of which no more than 260 tonnes may be taken in any one of the five SSRUs (new CM 41-05); (4) longline fishing in Statistical Division 58.4.3a (the Elan Bank) outside areas under national jurisdiction to no more than one vessel per country at any time by Uruguay and the total catch for Dissostichus spp. is limited to 250 tonnes in areas outside of national jurisdiction (new CM 41-06); (5) longline fishing in Statistical Division 58.4.3b (the BANZARE Bank) outside areas of national jurisdiction is limited to no more than one vessel per country at any time by Australia, Japan, Republic of Korea, Namibia, Spain and Uruguay and the total catch for Dissostichus spp. is limited to 150 tonnes in SSRU A and 50 tonnes for the scientific research survey in SSRUs A and B (new CM 41-07); (6) fishing for Dissostichus eleginoides with trawls, pots, or longlines in Statistical Division 58.5.2 is limited to 2,500 tonnes west of 79 degrees 20 minutes E. (new CM 41-08); (7) longline fishing in Statistical Subarea 88.1 by Argentina (two vessels), Republic of Korea (five vessels), Namibia (one vessel), New Zealand (four vessels), Russia (two vessels), South Africa (one vessel), Spain (one vessel), United Kingdom (three vessels), and Uruguay (two vessels) and the total catch of Dissostichus spp. is limited to 2,700 tonnes of which 40 tonnes is set aside for research fishing and the remaining 2,660 tonnes is divided 313 tonnes total for SSRUs B,C, and G and 1,698 tonnes total for SSRUs H, I, and K, and 495 tonnes for SSRU J, and 154 tonnes for SSRU L (new CM 41-09); and (8) longline fishing in Statistical Subarea 88.2 by Argentina (two vessels), New Zealand (four vessels), Russia (two vessels), South Africa (one vessel), Spain (one vessel), United Kingdom (three vessels), and Uruguay (two vessels) and the total catch of Dissostichus spp. South of 65 degrees S. is limited to 567 tonnes of which 20 tonnes is set aside for research fishing and the remaining 547 tonnes is divided 206 tonnes total for SSRUs C, D, F, and G and 341 tonnes for SSRU E (new CM 41-10).

Icefish

The Commission adopted area specific conservation measures for Champsocephalus gunnari for the 2007/2008 season and set the overall catch limit for the C. gunnari trawl fishery in Statistical Subarea 48.3 at 2,462 tonnes (new CM 42-01). The use of bottom trawls in the directed fishery was prohibited and fishing for C. gunnari within 12 nautical miles of the coast of South Georgia during March 1 to May 31 was prohibited.

The Commission set the catch limit for the C. gunnari trawl fishery within defined areas of Division 58.5.2 for the 2007/2008 season at 220 tonnes and implemented a ten-day catch and effort reporting system for the fishery (new CM 42-02).

Crab

The Commission set the total allowable catch level for the pot fishery for crab in Statistical Subarea 48.3 for the 2007/2008 fishing season at 1,600 tonnes and continued to limit participation to one vessel per member country (new CM 52-01).

The Commission established an experimental harvest regime for vessels participating in the crab fishery in Statistical Subarea 48.3 in the 2007/2008 fishing season (new CM 52-02).

Squid

The Commission set the total allowable catch limit for the exploratory jig fishery for Martialia hyadesi in Statistical Subarea 48.3 for the 2007/2008 fishing season at 2,500 tonnes and required each vessel participating in this exploratory fishery to collect data in accordance with a specified Data Collection Plan (new CM 61-01).

Krill

The Commission carried forward the precautionary catch limits for krill in Statistical Area 58.4.1 at 440,000 tonnes as indicated above.

Resolution:

The Commission adopted Resolution 26/XXVI (International Polar Year/Census of Antarctic Marine Life) urging Contracting Parties to support and where possible contribute to the International Polar Year activities in the CCAMLR Convention Area, including the Census of Antarctic Marine Life.

¹ Except for waters adjacent to the Kerguelen Islands

² Except for waters adjacent to the Crozet Islands

³ Except for waters adjacent to the Prince Edward Islands

For further information, see the CCAMLR web site at www.ccamlr.org under Publications for the Schedule of Conservation Measures in Force (2007/2008), or contact the Commission at the CCAMLR Secretariat, P.O. Box 213, North Hobart, Tasmania 7002, Australia. Tel: (61) 3-6210-1111).

Authority: 16 U.S.C. 2431 et seq.

Dated: March 14, 2008.
Samuel D. Rauch III,
Deputy Assistant Administrator for Regulatory Programs National Marine Fisheries Service.

[FR Doc. E8-5680 Filed 3-19-08; 8:45 am]

BILLING CODE 3510-22-S